NATIONAL INDIAN GAMING COMMISSION

25 CFR Part 547

RIN 3141-AA64

Minimum Technical Standards for Class II Gaming Systems and Equipment; Correction

AGENCY: National Indian Gaming Commission.

ACTION: Final rule; correction.

SUMMARY: On December 27, 2017, the National Indian Gaming Commission published a rule amending its minimum technical standards for Class II gaming systems and equipment. This document corrects the preamble regarding the OMB Control Number and OMB Control Number expiration date.

DATES: Effective January 19, 2018.

FOR FURTHER INFORMATION CONTACT: Austin Badger, National Indian Gaming Commission; 1849 C Street NW, MS 1621, Washington, DC 20240. Telephone: 202-632-7003.

SUPPLEMENTARY INFORMATION: In the final rule FR Doc. 2017-27945, published on December 27, 2017, the following correction is made:

On page 61175, in the second column, the paragraph “The information collection requirements contained in this rule were previously approved by the Office of Management and Budget (OMB) as required by 44 U.S.C. 3501 et seq. and assigned OMB Control Number 3141-0007, which expired in August of 2011. The NIGC is in the process of reinstating that Control Number.” is corrected to read “The information collection requirements contained in this rule were previously approved by the Office of Management and Budget (OMB) as required by 44 U.S.C. 3501 et seq. and assigned OMB Control Number 3141-0014. The OMB control number expires on November 30, 2018.”

Dated: January 16, 2018.
Jonodev O. Chaudhuri,
Chairman.
Kathryn Isom-Clause,
Vice Chair.
E. Sequoyah Simermeyer,
Associate Commissioner.

[FR Doc. 2018-00936 Filed 1-18-18; 8:45 am]

BILLING CODE 7565-01-P